NATIONAL SCIENCE FOUNDATION

Advisory Committee for Geosciences; Notice of Meeting

In accordance with the Federal Advisory Committee Act (Pub. L. 92-463, as amended), the National Science Foundation (NSF) announces the following meeting:

Name and Committee Code: Advisory Committee for Geosciences (1755).

Date and Time: October 18, 2017; 8:30 a.m.-5:00 p.m., October 19, 2017; 8:30 a.m.-2:00 p.m.

Place: National Science Foundation, 2415 Eisenhower Avenue, Alexandria, Virginia 22314, Room E 2020.

Type of Meeting: Open.

Contact Person: Melissa Lane, National Science Foundation, Room C 8000, 2415 Eisenhower Avenue, Alexandria, Virginia 22314. Phone 703-292-8500.

Minutes: May be obtained from the contact person listed above.

Purpose of Meeting: To provide advice, recommendations, and oversight on support for geoscience research and education including atmospheric, geo-space, earth, ocean and polar sciences.

Agenda

October 18, 2017; 8:30 a.m.-5:00 p.m.

• Directorate and NSF activities and plans.

• Committee Discussion on Development of Strategic Questions in the Geosciences.

• Review and Approval of Committee of Visitor Reports for GEO Education and the Division of Earth Sciences.

• Meeting with the NSF Director and COO.

October 19, 2017; 8:30 a.m.-2:00 p.m.

• Division Meetings.

• General Discussion of Issues Regarding the Newly Re-established Office of Polar Programs.

• Action Items/Planning for Spring 2018 Meeting.

Dated: September 12, 2017.
Crystal Robinson,
Committee Management Officer.

[FR Doc. 2017-19604 Filed 9-14-17; 8:45 am]

BILLING CODE 7555-01-P